DEPARTMENT OF EDUCATION

Notice of Extension of Obligation Deadline for the Emergency Impact Aid for Displaced Students Program Under Section 107 of the Hurricane Education Recovery Act, Division B, Title IV of Public Law 109-148

AGENCY: Office of Elementary and Secondary Education, Department of Education.

SUMMARY: The Secretary extends, to September 30, 2006, the obligation deadline for all State educational agency (SEA) grantees and local educational agency (LEA) subgrantees under the Emergency Impact Aid for Displaced Students (Emergency Impact Aid) program for fiscal year (FY) 2006. We take this action because additional funding for this program for necessary expenses related to the consequences of Hurricanes Katrina and Rita of the 2005 hurricane season was recently made available under Title II, Chapter 6 of the Emergency Supplemental Appropriations Act for Defense, the Global War on Terror, and Hurricane Recovery, 2006, Public Law 109-234.

FOR FURTHER INFORMATION CONTACT: Ms. Catherine Schagh, Director, Impact Aid Program, U.S. Department of Education, 400 Maryland Avenue, SW., room 3E105, Washington, DC 20202-6244. Telephone: (202) 260-3858 or by e-mail: Impact.Aid@ed.gov.

If you use a telecommunications device for the deaf (TDD), call the Federal Relay Service (FRS) at 1-800-877-8339. Individuals with disabilities can obtain this document in an alternative format (e.g., Braille, large print, audiotape, or computer diskette) on request to the program contact person listed in this section.

SUPPLEMENTARY INFORMATION:

Background

On January 12, 2006, we published a notice in the Federal Register (71 FR 2027) announcing the initial availability of funds and application deadline for assistance under the Emergency Impact Aid program. The notice included a number of application requirements regarding deadlines and student enrollment data and also indicated that all SEAs, LEAs, and Bureau of Indian Affairs (BIA)-funded schools must obligate all funds received under section 107 of the Hurricane Education Recovery Act by July 31, 2006.

On June 15, 2006, the President signed H.R. 4939, the Emergency Supplemental Appropriations Act for Defense, the Global War on Terror, and Hurricane Recovery, 2006, Public Law 109-234. This law made an additional $235,000,000 available for the Emergency Impact Aid program and provided us with the authority to extend the obligation period for the use of the new and initial section 107 funds until September 30, 2006. The Secretary is granting this extension to all SEA grantees and LEA or BIA-funded school subgrantees that find it necessary to use it, provided that all section 107 funds are used only for expenses incurred during the 2005-2006 school year. We strongly encourage all entities to make their best effort to complete all obligations in advance of the September 30 date to avoid the lapse of these funds. This action does not change any of the other requirements included in the initial January 12, 2006, notice published in the Federal Register or in the program guidance.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.938C Emergency Impact Aid for Displaced Students)

Program Authority: Division B, Title IV of Pub. L. 109-148 and Title II, Chapter 6 of Pub. L. 109-234.

Dated: July 17, 2006.
Henry L. Johnson,
Assistant Secretary for Elementary and Secondary Education.

[FR Doc. E6-11560 Filed 7-19-06; 8:45 am]

BILLING CODE 4000-01-P